DEPARTMENT OF TRANSPORTATION

Surface Transportation Board

[Docket No. FD 35141]

U S Rail Corporation—Construction and Operation Exemption—Brookhaven Rail Terminal

On August 7, 2008, U S Rail Corporation (U S Rail), an existing class III short line common carrier in Toledo, OH, filed a petition for exemption with the Surface Transportation Board (Board) under 49 U.S.C. 10502 seeking authority to construct and operate approximately 18,000 feet (3.4 miles) of new rail line at a 28-acre site (the Brookhaven Rail Terminal or BRT) located in the Town of Brookhaven, Suffolk County, NY. In addition to the construction and operation of the approximately 18,000 feet of rail line, U S Rail also proposes to construct various facilities on the BRT site. These facilities include a rail switch (which would allow the new rail line to connect with the existing Long Island Rail Road (LIRR mainline), 200 feet of lead track, and crushed stone aggregate (aggregate) handling and storage facilities consisting of an aggregate storage area, an intermodal freight storage area, and a transload area with truck scales.

The proposed rail line would allow U S Rail to provide an efficient means for delivering aggregate via rail from sources in upper New York State to its primary customer, the Sills Group, located on Long Island, NY. If approved, the project would reduce the Sills Group's reliance on truck transport of aggregate through the New York City metropolitan region and allow Sills Group to deliver up to 500,000 tons of aggregate annually for use in road and building construction on Long Island. The Sills Group would use 250,000 tons of the aggregate for its construction facilities on Long Island (the Scatt Materials plant and the Empire Asphalt plant) and would make the remaining 250,000 tons of aggregate available to currently unidentified customers.

Rail operations would consist of an average of six trains per week; three inbound trains, each consisting of approximately 40 to 50 railcars of aggregate delivered to the BRT, and three outbound trains per week consisting of 40 to 50 empty railcars. New York & Atlantic Railway would deliver the aggregate to the BRT over the LIRR, which would hand the rail cars to U S Rail for rail movements on the BRT site.

SEA is seeking public review and comment during a 15-day comment period, which is shorter than the time SEA usually affords for review and comment of its Environmental Assessments. SEA believes that 15 days for review and comment is appropriate here because the Town of Brookhaven's Division of Environmental Protection has already conducted an environmental review of the BRT site, the site is an industrial area and is already highly disturbed, and the Town of Brookhaven and U S Rail have entered into a Stipulation of Settlement regarding this proposal. Please send comments on this Draft EA postmarked no later than August 10, 2010 to: Troy Brady, Environmental Protection Specialist, Surface Transportation Board, Section of Environmental Analysis, Suite 1100, 395 E Street, SW., Washington, DC 20423-0001, Attn: Docket No. 35141.

Comments may be file electronically on the Board's website, http://www.stb.dot.gov by clicking on the “E-Filing” link. Please refer to Finance Docket No. 35141 in correspondence, including e-filing, addressed to the Board. If you have questions regarding this Draft EA, please contact Troy Brady by phone at (202) 245-0301, by fax at (202) 245-0454, or by e-mail at troy.brady@stb.dot.gov.

Decided: July 21, 2010.
By the Board, Victoria Rutson, Chief, Section of Environmental Analysis.
Jeffrey Herzig,
Clearance Clerk.

[FR Doc. 2010-18243 Filed 7-23-10; 8:45 am]

BILLING CODE 4915-01-P